DEPARTMENT OF COMMERCE

National Oceanic and Atmospheric Administration

RIN 0648-XC203

Pacific Fishery Management Council; Public Meeting

AGENCY: National Marine Fisheries Service (NMFS), National Oceanic and Atmospheric Administration (NOAA), Commerce.

ACTION: Notice of a public meeting.

SUMMARY: The Pacific Fishery Management Council's (Pacific Council) Model Evaluation Workgroup (MEW) will hold a work session to review work products individual members have been developing prior to submission to the 2012 salmon methodology review process. The meeting is open to the public.

DATES: The work session will be held Monday, September 17, 2012, from 12:30 p.m. to 3:30 p.m.

ADDRESSES: The work session will be held at the Northwest Indian Fisheries Commission Conference Room, 6730 Martin Way East, Olympia, WA 98516; telephone: (360) 438-1180.

Council address: Pacific Council, 7700 NE Ambassador Place, Suite 101, Portland, OR 97220-1384.

FOR FURTHER INFORMATION CONTACT: Mr. Mike Burner or Mr. Chuck Tracy, Salmon Management Staff Officer, Pacific Council; telephone: (503) 820-2280.

SUPPLEMENTARY INFORMATION: The purpose of the work session is to review work products, including possible bias in the Fishery Regulation Assessment Model associated with multiple encounters during mark selective fisheries. The results of the analyses will be submitted for review during the Pacific Council's 2012 salmon methodology review process.

Although non-emergency issues not contained in the meeting agendas may come before the MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280 at least 5 days prior to the meeting date.

Dated: August 28, 2012.
Tracey L. Thompson,
Acting Deputy Director, Office of Sustainable Fisheries, National Marine Fisheries Service.

[FR Doc. 2012-21553 Filed 8-30-12; 8:45 am]

BILLING CODE 3510-22-P